DEPARTMENT OF TRANSPORTATION

Federal Aviation Administration

14 CFR Part 39

[Docket No. FAA-2020-0916; Product Identifier 2015-SW-055-AD]

RIN 2120-AA64

Airworthiness Directives; Airbus Helicopters

AGENCY: Federal Aviation Administration (FAA), DOT.

ACTION: Notice of proposed rulemaking (NPRM).

SUMMARY: The FAA proposes to adopt a new airworthiness directive (AD) for Airbus Helicopters Model AS332C, AS332C1, AS332L, AS332L1, AS332L2, EC 155B, EC155B1, EC225LP, and SA330J helicopters. This proposed AD would require inspecting the snap fasteners on the windows. This proposed AD was prompted by incidents of difficulty unbuttoning the extraction tape on the windows. The proposed actions are intended to address an unsafe condition on these products.

DATES: The FAA must receive comments on this proposed AD by December 7, 2020.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2020-0916; or in person at Docket Operations between 9 a.m. and 5 p.m., Monday through Friday, except Federal holidays. The AD docket contains this proposed AD, the European Aviation Safety Agency (EASA) ADs, any comments received, and other information. The street address for Docket Operations is listed above. Comments will be available in the AD docket shortly after receipt.

For service information identified in this proposed rule, contact Airbus Helicopters, 2701 N Forum Drive, Grand Prairie, TX 75052; telephone 972-641-0000 or 800-232-0323; fax 972-641-3775; or at https://www.airbus.com/helicopters/services/technical-support.html. You may view the referenced service information at the FAA, Office of the Regional Counsel, Southwest Region, 10101 Hillwood Pkwy., Room 6N-321, Fort Worth, TX 76177.

FOR FURTHER INFORMATION CONTACT: David Hatfield, Aviation Safety Engineer, Safety Management Section, Rotorcraft Standards Branch, FAA, 10101 Hillwood Pkwy., Fort Worth, TX 76177; telephone 817-222-5110; email david.hatfield@faa.gov.

SUPPLEMENTARY INFORMATION:

Comments Invited

The FAA invites you to send any written relevant data, views, or arguments about this proposal. Send your comments to an address listed under ADDRESSES. Include “Docket No. FAA-2020-0916; Product Identifier 2015-SW-055-AD” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this proposal.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to David Hatfield, Aviation Safety Engineer, Safety Management Section, Rotorcraft Standards Branch, FAA, 10101 Hillwood Pkwy., Fort Worth, TX 76177; telephone 817-222-5110; email david.hatfield@faa.gov. Any commentary that the FAA receives which is not specifically designated as CBI will be placed in the public docket for this rulemaking.

Discussion

EASA, which is the Technical Agent for the Member States of the European Union, has issued EASA AD No. 2015-0149, dated July 23, 2015 (EASA AD 2015-0149), to correct an unsafe condition for Airbus Helicopters Model AS 322 and EC 225 LP helicopters; EASA AD No. 2015-0168, dated August 13, 2015 (EASA AD 2015-0168), to correct an unsafe condition for Airbus Helicopters Model EC 155 B and EC 155 B1 helicopters; and EASA AD No. 2015-0169, dated August 13, 2015 (EASA AD 2015-0169), to correct an unsafe condition for Airbus Helicopters Model SA330 J helicopters, equipped with an extraction tape fitted with “press-studs” (snap fasteners) on the windows. EASA advises of difficulty unbuttoning the extraction tape during the manufacturing of a helicopter. Investigation concluded that the difficulty was caused by a bad male/female coupling, possibly resulting from miscrimping. This difficulty is known to have occurred on two additional helicopters. EASA states this condition, if not detected and corrected, could prevent the jettisoning of the helicopter window, possibly affecting the evacuation of passengers during an emergency situation. For these reasons, EASA AD 2015-0149, EASA AD 2015-0168, and EASA AD 2015-0169 require inspecting each press-stud located on the extraction tapes of the window jettisoning system and depending on the findings, installing self-gripping tape and replacing the press-studs.

FAA's Determination

These helicopters have been approved by EASA and are approved for operation in the United States. Pursuant to the FAA's bilateral agreement with the European Union, EASA has notified the FAA of the unsafe condition described in its AD. The FAA is proposing this AD because after evaluating all known relevant information and determining that an unsafe condition is likely to exist or develop on other products of the same type designs.

Related Service Information Under 1 CFR Part 51

The FAA reviewed Airbus Helicopters Alert Service Bulletin (ASB) No. AS332-56.00.10, Revision 0, dated July 16, 2015, for Model AS332-series helicopters; ASB No. EC155-56A006, Revision 0, dated August 10, 2015, for Model EC155-series helicopters; ASB No. EC225-56A008, Revision 0, dated July 16, 2015, for Model EC225LP helicopters; and ASB No. SA330-56.02, Revision 0, dated August 10, 2015, for Model SA330J helicopters. This service information specifies procedures to inspect the internal and external press-studs and to install self-gripping tape for press-studs that do not unbutton or are difficult to unbutton. This service information also specifies procedures to replace internal press-studs that are difficult to unbutton and a repetitive inspection for affected external press-studs until they are replaced.

This service information is reasonably available because the interested parties have access to it through their normal course of business or by the means identified in the ADDRESSES section.

Proposed AD Requirements

This proposed AD would require, within 50 hours time-in-service (TIS), inspecting each internal and external snap fastener to determine whether they unbutton by hand. For external snap fasteners that do not unbutton by hand, this proposed AD would require replacing the male part of the snap fastener, and installing self-gripping tape if it still does not unbutton by hand. Thereafter, this proposed AD would require inspecting the external extraction tape and self-gripping tape every 15 hours TIS and replacing any tape that is cracked, torn, disintegrated, worn, or missing, and then replacing the snap fasteners within 100 hours TIS. For internal snap fasteners that do not unbutton by hand, this proposed AD would require installing the self-gripping tape and then replacing the snap fasteners within 900 hours TIS.

Costs of Compliance

The FAA estimates that this proposed AD would affect 72 helicopters of U.S. Registry. Labor costs are estimated at $85 per work-hour. Based on these numbers, the FAA estimates that operators may incur the following costs in order to comply with this proposed AD.

Inspecting the snap fasteners would take about 1 work-hour for a cost of $85 per helicopter and $6,120 for the U.S. fleet. Installing self-gripping tape would take about 0.3 work-hour and parts would cost $200 for a cost of $226 per window. Inspecting the tape would take about 0.3 work-hour for a cost of $26 per window per inspection cycle. Replacing the extraction tape or self-gripping tape would take about 1 work-hour and parts would cost $200 for a total of $285 per window. Replacing a snap fastener would take about 1 work-hour and parts would cost $200 for a total of $285 per window.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866,

2. Will not affect intrastate aviation in Alaska, and

3. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus Helicopters: Docket No. FAA-2020-0916; Product Identifier 2015-SW-055-AD.

(a) Applicability

This airworthiness directive (AD) applies to Airbus Helicopters Model AS332C, AS332C1, AS332L, AS332L1, AS332L2, EC 155B, EC155B1, EC225LP, and SA330J helicopters, certificated in any category, with window extraction tape with snap fasteners installed.

(b) Unsafe Condition

This AD defines the unsafe condition as failure of a snap fastener to unbutton. This condition could result in failure of the window to jettison, preventing occupants from exiting the helicopter during an emergency.

(c) Comments Due Date

The FAA must receive comments by December 7, 2020.

(d) Compliance

You are responsible for performing each action required by this AD within the specified compliance time unless it has already been accomplished prior to that time.

(e) Required Actions

Within 50 hours time-in-service (TIS), inspect each internal and external snap fastener to determine if it can be unbuttoned by hand.

Note 1 to paragraph (e): Airbus Helicopters refers to the snap fastener as a “press-stud.”

(1) If all internal and external snap fasteners can be unbuttoned by hand, no further action is required by this AD.

(2) If an external snap fastener does not unbutton by hand:

(i) Before further flight, replace the male part of the snap fastener and determine if the snap fastener can be unbuttoned by hand force. If the snap fastener still does not unbutton by hand, before further flight, install self-gripping tape.

(ii) Thereafter, at intervals not to exceed 15 hours TIS, inspect the external extraction tape and self-gripping tape for a crack, a tear, disintegration, or wear. If the extraction tape or self-gripping tape has a crack, a tear, any disintegration, wear, or is missing, before further flight, replace the tape. Replacing the extraction tape or self-gripping tape does not terminate this repetitive inspection.

(iii) Within 100 hours TIS, replace each external snap fastener by following the Accomplishment Instructions, paragraph 3.B.4., of Airbus Helicopters Alert Service Bulletin (ASB) No. AS332-56.00.10, Revision 0, dated July 16, 2015 (ASB AS332-56.00.10); ASB No. EC155-56A006, Revision 0, dated August 10, 2015 (ASB EC155-56A006); ASB No. EC225-56A008, Revision 0, dated July 16, 2015 (ASB EC225-56A008); or ASB No. SA330-56.02, Revision 0, dated August 10, 2015 (ASB SA330-56.02), as applicable to your model helicopter. Replacing the external snap fastener terminates the repetitive inspection requirements specified in paragraph (e)(2)(ii) of this AD.

(3) If an internal snap fastener does not unbutton by hand:

(i) Before further flight, install self-gripping tape by following the Accomplishment Instructions, paragraph 3.B.3., of AS332-56.00.10, ASB EC155-56A006, ASB EC225-56A008, or ASB SA330-56.02, as applicable to your model helicopter.

(ii) Within 900 hours TIS, replace each internal snap fastener by following the Accomplishment Instructions, paragraph 3.B.5., of ASB AS332-56.00.10, ASB EC155-56A006, ASB EC225-56A008, or ASB SA330-56.02, as applicable to your model helicopter.

(f) Alternative Methods of Compliance (AMOCs)

(1) The Manager, Rotorcraft Standards Branch, FAA, may approve AMOCs for this AD. Send your proposal to: David Hatfield, Aviation Safety Engineer, Safety Management Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office before operating any aircraft complying with this AD through an AMOC.

(g) Additional Information

The subject of this AD is addressed in European Aviation Safety Agency (EASA) AD No. 2015-0149, dated July 23, 2015; AD No. 2015-0168, dated August 13, 2015; and AD No. 2015-0169, dated August 13, 2015. You may view the EASA ADs on the internet at https://www.regulations.gov in the AD Docket.

(h) Subject

Joint Aircraft Service Component (JASC) Code: 5600, Window/Windshield System.

Issued on October 13, 2020.
Lance T. Gant,
Director, Compliance & Airworthiness Division, Aircraft Certification Service.

[FR Doc. 2020-22948 Filed 10-21-20; 8:45 am]

BILLING CODE 4910-13-P